DEPARTMENT OF COMMERCE

National Oceanic and Atmospheric Administration

[RTID 0648-XA009]

Mid-Atlantic Fishery Management Council (MAFMC); Public Meetings

AGENCY: National Marine Fisheries Service (NMFS), National Oceanic and Atmospheric Administration (NOAA), Commerce.

ACTION: Notice of initiation of scoping process; notice of public scoping meetings; request for comments.

SUMMARY: The Mid-Atlantic Fishery Management Council (Council), jointly with the Atlantic States Marine Fisheries Commission (Commission) will hold 11 public scoping meetings and a written comment period to solicit public comments on potential topics to be addressed by a Commercial/Recreational Allocation Amendment to the Summer Flounder, Scup, and Black Sea Bass Fishery Management Plan (FMP).

DATES: Written public comments must be received on or before 11:59 p.m. EST, March 17, 2020. The meetings will be held between February 13, 2020 and March 3, 2020. For specific dates and times, see SUPPLEMENTARY INFORMATION.

ADDRESSES: The scoping document is accessible electronically at: http://www.mafmc.org/s/SFSBSB_allocation_scoping_PID_Jan2020_final.pdf or by request to Dr. Chris Moore, Executive Director, Mid-Atlantic Fishery Management Council, 800 N State Street, Suite 201, Dover, DE 19901; telephone: (302) 674-2331.

Meeting addresses: The public hearings will be held in Buzzards Bay, MA; Narragansett, RI; Old Lyme, CT; Stony Brook, NY; Belmar, NJ; Galloway, NJ; Dover, DE; Berlin, MD; Fort Monroe, VA; and Washington, NC. One additional hearing will be held by internet webinar. For specific dates and locations, see SUPPLEMENTARY INFORMATION.

Public comments: Written comments may be sent by any of the following methods:

• Email to: jbeaty@mafmc.org; Include “Fluke/Scup/Sea Bass Allocation Amendment” in the subject line.

• Via webform at: http://www.mafmc.org/comments/sfsbsb-allocation-amendment.

• Mail to: Dr. Christopher M. Moore, Executive Director, Mid-Atlantic Fishery Management Council, 800 N State Street, Suite 201, Dover, DE 19901. Mark the outside of the envelope “Fluke/Scup/Sea Bass Allocation Amendment.”

• Fax to: (302) 674-5399.

FOR FURTHER INFORMATION CONTACT: Christopher M. Moore, Ph.D., Executive Director, Mid-Atlantic Fishery Management Council, telephone: (302) 526-5255.

SUPPLEMENTARY INFORMATION: The Mid-Atlantic Fishery Management Council and the Atlantic States Marine Fisheries Commission have initiated an amendment to the Summer Flounder, Scup, and Black Sea Bass FMP, known as the “Summer Flounder, Scup, and Black Sea Bass Commercial/Recreational Allocation Amendment.” This amendment will consider potential modifications to the allocations of catch or landings between the commercial and recreational sectors for summer flounder, scup, and black sea bass. The commercial and recreational allocations for all three species were set in the mid-1990s based on historical proportions of landings (for summer flounder and black sea bass) or catch (for scup) from each sector. In July 2018, the Marine Recreational Information Program released revisions to its time series of catch (harvest and discards) estimates. These revisions resulted in much higher recreational catch estimates compared to previous estimates, affecting the entire time series of data going back to 1981. Some changes have also been made to commercial catch data since the allocations were established. The current commercial and recreational allocation percentages for all three species do not reflect the current understanding of the recent and historic proportions of catch and landings from the two sectors. This amendment will consider whether changes to these allocations are warranted.

Additional information and amendment documents are available at: http://www.mafmc.org/actions/sfsbsb-allocation-amendment.

The Council and Commission will hold 11 public scoping hearings on this amendment, during which Council or Commission staff will brief the public on the contents of the amendment documents and alternatives under consideration, prior to opening the hearing for public comments. Scoping is the first and best opportunity to raise concerns related to the scope of issues that will be considered. The hearings may not run the full length of time stated below, depending on attendance.

The hearings schedule is as follows:

1. Thursday, February 13, 2020 from 6 p.m. to 7:30 p.m.: Massachusetts Maritime Academy, Admiral's Hall, 101 Academy Drive, Buzzards Bay, MA 02532.

2. Wednesday, February 19, 2020 from 6 p.m. to 7 p.m.: Delaware Dept. of Natural Resources & Environmental Control Auditorium, Richardson & Robbins Building, 89 Kings Highway, Dover, DE 19901.

3. Monday, February 24, 2020 from 6 p.m. to 8 p.m.: Belmar Municipal Court Room, 601 Main Street, Belmar, NJ 07719.

4. Tuesday, February 25, 2020 from 3:30 p.m. to 4:45 p.m.: Berlin Library, 13 Harrison Avenue, Berlin, MD 21811.

5. Tuesday, February 25, 2020 from 6 p.m. to 8 p.m.: Galloway Township Branch Library, 306 East Jimmie Leeds Road, Galloway, NJ 08205.

6. Tuesday, February 25, 2020 from 6 p.m. to 8 p.m.: North Carolina Division of Marine Fisheries Pamlico District Office, 943 Washington Square Mall, US Highway 17, Washington, NC 27889.

7. Wednesday, February 26, 2020 from 6 p.m. to 7:30 p.m.: University of Rhode Island Bay Campus, Corless Auditorium, South Ferry Road, Narragansett, RI 02882.

8. Wednesday, February 26, 2020 from 7 p.m. to 8 p.m.: Connecticut Department of Energy and Environmental Protection Marine Headquarters Boating Education Center (Rear Building), 333 Ferry Road, Old Lyme, CT 06371.

9. Thursday, February 27, 2020 from 6 p.m. to 7:30 p.m.: Stony Brook University, School of Marine and Atmospheric Sciences (SOMAS), Room 120, Endeavor Hall; Stony Brook, NY 11794.

10. Monday, March 2, 2020 from 5 p.m. to 6 p.m.: Virginia Marine Resources Commission, 380 Fenwick Road, Building 96, Fort Monroe, VA 23651.

11. Tuesday, March 3, 2020 from 6 p.m. to 7:30 p.m.: internet webinar accessible at http://mafmc.adobeconnect.com/sfsbsb_com_rec_allocation_scoping/. Audio is available by dialing 1-800-832-0736 and entering room number 5068871.

Special Accommodations

These meetings are physically accessible to people with disabilities. Requests for sign language interpretation or other auxiliary aids should be directed to M. Jan Saunders at the Mid-Atlantic Council Office, (302) 526-5251, at least 5 days prior to the meeting date.

Authority: 16 U.S.C. 1801 et seq.

Dated: January 9, 2020.
Tracey L. Thompson,
Acting Deputy Director, Office of Sustainable Fisheries, National Marine Fisheries Service.

[FR Doc. 2020-00398 Filed 1-13-20; 8:45 am]

BILLING CODE 3510-22-P